INTERNATIONAL TRADE COMMISSION

[Investigation No. 337-TA-1414]

Certain Semiconductor Devices and Products Containing the Same; Notice of Institution of Investigation

AGENCY: U.S. International Trade Commission.

ACTION: Notice.

SUMMARY: Notice is hereby given that a complaint was filed with the U.S. International Trade Commission on July 26, 2024, under section 337 of the Tariff Act of 1930, as amended, on behalf of Infineon Technologies Americas Corp. of El Segundo, California and Infineon Technologies Austria AG of Villach, Austria. Supplements to the complaint were filed on July 29 and August 13, 2024. The complaint alleges violations of section 337 based upon the importation into the United States, the sale for importation, and the sale within the United States after importation of certain semiconductor devices and products containing the same by reason of the infringement of certain claims of U.S. Patent No. 9,899,481 (“the '481 patent”); U.S. Patent No. 8,686,562 (“the '562 patent”); U.S. Patent No. 9,070,755 (“the '755 patent”); and U.S. Patent No. 8,264,003 (“the '003 patent”). The complaint further alleges that an industry in the United States exists as required by the applicable Federal Statute. The complainants request that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on August 26, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-4, 6, 9, and 17 of the '481 patent; claims 1, 2, 8-10, and 13-15 of the '562 patent; claims 1-4, 8, and 9 of the '755 patent; and claims 1, 2, and 10 of the '003 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “GaN-on-Si semiconductor devices, GaN Field Effect Transistors (`FETs'), GaN high electron mobility transistors, and products incorporating such transistors, which are discrete chips, integrated circuits (ICs), wafers, modules, and demo boards”;

(3) For the purpose of the investigation so instituted, the following are hereby named as parties upon which this notice of investigation shall be served:

(a) The complainants are:

Infineon Technologies Americas Corp., 101 North Pacific Coast Highway, El Segundo, California 90245

Infineon Technologies Austria AG, Siemensstraße 2, A-9500, Villach, Austria

(b) The respondents are the following entities alleged to be in violation of section 337, and are the parties upon which the complaint is to be served:

Innoscience (Suzhou) Technology Company, Ltd., No. 98, Xinli Road, Lili Town, Wujiang, District Suzhou, Jiangsu, 215000 China

Innoscience (Suzhou) Semiconductor Co., Ltd., No. 98, Xinli Road, Lili Town, Wujiang, District Suzhou, Jiangsu, 215000 China

Innoscience (Zhuhai) Technology Company, Ltd., No. 39, Jinyuan 2nd Road, High-Tech Zone, Zhuhai, Guangdong, 519099 China

Innoscience America, Inc., 5451 Great America Parkway, Suite 125, Santa Clara, CA 95054

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant[s] of the complaint and the notice of investigation. Extensions of time for submitting responses to the complaint and the notice of investigation will not be granted unless good cause therefor is shown.

Failure of the respondents to file a timely response to each allegation in the complaint and in this notice may be deemed to constitute a waiver of the right to appear and contest the allegations of the complaint and this notice, and to authorize the administrative law judge and the Commission, without further notice to the respondents, to find the facts to be as alleged in the complaint and this notice and to enter an initial determination and a final determination containing such findings, and may result in the issuance of an exclusion order or a cease and desist order or both directed against the respondents.

By order of the Commission.
Issued: August 27, 2024.
Sharon Bellamy,
Supervisory Hearings and Information Officer.

[FR Doc. 2024-19542 Filed 8-29-24; 8:45 am]

BILLING CODE 7020-02-P